DEPARTMENT OF COMMERCE

National Oceanic and Atmospheric Administration

[RTID 0648-XF122]

South Atlantic Fishery Management Council; Public Meeting

AGENCY: National Marine Fisheries Service (NMFS), National Oceanic and Atmospheric Administration (NOAA), Commerce.

ACTION: Meeting of the South Atlantic Fishery Management Council.

SUMMARY: The South Atlantic Fishery Management Council (Council) will hold meetings of the following: Snapper Grouper Commercial Sub-Committee, Snapper Grouper Committee, Shrimp Committee, Joint Habitat and Ecosystem Committee and Shrimp Committee, and the Southeast Data, Assessment, and Review (SEDAR) Committee. The meeting week will also include a formal public comment session and meetings of the Full Council.

DATES: The Council meeting will be held from 8:30 a.m. on Monday, September 15, 2025, until 12 p.m. on Friday, September 19, 2025.

ADDRESSES: Meeting address: The meeting will be held at the North Charleston Marriott, 4770 Goer Drive, North Charleston, SC 29406; phone (843) 747-1900. The meeting will also be available via webinar. See SUPPLEMENTARY INFORMATION.

FOR FURTHER INFORMATION CONTACT: Kim Iverson, Public Information Officer, SAFMC; phone 843/302-8440 or toll free 866/SAFMC-10; FAX 843/769-4520; email: kim.iverson@safmc.net.

SUPPLEMENTARY INFORMATION: Meeting information, including agendas, overviews, and briefing book materials will be posted on the Council's website at: https://safmc.net/council-meetings/. Webinar registration links for the meeting will also be available from the Council's website.

Public comment: Public comment on agenda items may be submitted through the Council's online comment form available from the Council's website at: https://safmc.net/events/september-2025-council-meeting/. Written comments will be accepted from August 29, 2025, until September 19, 2025. These comments are accessible to the public, part of the Administrative Record of the meeting, and immediately available for Council consideration. A formal public comment session will also be held during the Council meeting.

The Items of Discussion in the Individual Meeting Agendas Are as Follows

Snapper Grouper Commercial Sub-Committee, Monday, September 15, 2025, 8:30 a.m. Until 10:30 a.m.

The Sub-Committee will review scoping comments on draft Amendment 60 to the Snapper Grouper Fishery Management Plan (FMP) addressing revisions to policies and requirements for the snapper grouper commercial (SG1) permit and measures to increase trip efficiency. Recommendations will be made to the Full Council.

Council Session I, Monday, September 15, 2025, 10:45 a.m. Until 5:30 p.m., Tuesday, September 16, 2025, 8:30 a.m. Until 12 p.m.

Newly appointed Council members will be sworn in and the 2024 Law Enforcement Officer of the Year Award will be presented. The Council will receive reports from state agencies, the NMFS Southeast Regional Office, and NMFS Southeast Science Center. Note that reports from Council liaisons and staff and the Council's Best Fishing Practices Initiative will be included in the meeting briefing book materials. The Council will review public comments and comments from its advisory panels relative to Executive Order 14276 Restoring American Seafood Competitiveness and review a draft response. The Council will review its research and monitoring priorities and is scheduled to approve the revised 2025-2029 Research and Monitoring Plan.

Council members will receive an update on the South Atlantic Fishery Independent Surveys, the Dolphinfish Management Strategy Evaluation (MSE), and hold an informational session on State Management relative to federal marine resources.

Snapper Grouper Committee, Tuesday, September 16, 2025, 1:30 p.m. Until 5:30 p.m. Wednesday, September 17, 2025, 8:30 a.m.-3:45 p.m., and Thursday, September 18, 2025, 8:30 a.m. Until 10:30 a.m.

The Snapper Grouper Committee will receive updates on rulemaking and Exempted Fishing Permit applications, receive a report from the Commercial Sub-Committee meeting, and discuss yellowtail snapper and mutton snapper Acceptable Biological Catch (ABC) levels and jurisdictional allocations being addressed through Amendment 44 to the Snapper Grouper FMP for the South Atlantic, and Gulf Reef Fish Amendment 55.

The Committee will receive updates on the following: golden tilefish landings discrepancies; vessel limits for headboats; aggregate bag limits for the recreational sector; and blueline tilefish jurisdictional allocations. The Committee will receive an update and discuss next steps for the Snapper Grouper Management Strategy Evaluation. The Committee will also provide input on topics to include for the Fall 2025 meeting of the Snapper Grouper Advisory Panel.

Committee members will discuss an Innovative Management Approach for the Snapper Grouper Fishery, including goalposts, basic principles, and actions. The Committee will review public scoping comments on management measures for black sea bass proposed through Snapper Grouper Regulatory Amendment 37 and is scheduled to approve the amendment for public hearings. In addition, the Council will receive an overview of Snapper Grouper Amendment 61 with options to revise the snapper grouper management unit and is scheduled to approve the amendment for scoping.

Wednesday, September 17, 2025, 4 p.m.—Public comment will be accepted from individuals attending the meeting in person and via webinar on all items on the Council meeting agenda. The Council Chair will determine the amount of time provided to each commenter based on the number of individuals wishing to comment.

Shrimp Committee, Thursday, September 18, 2025, 10:45 a.m. Until 12 p.m.

The Committee will receive an update from NMFS Southeast Regional Office on the Shrimp Biological Opinion and a presentation on Smalltooth Sawfish Population Viability Analysis.

Joint Habitat & Ecosystem and Shrimp Committee, Thursday, September 18, 2025, 1:30 p.m. Until 3:30 p.m.

The joint Committees will receive a report from the Habitat & Ecosystem Advisory Panel, review the Habitat & Ecosystem Workplan, and review public hearing comments for joint Coral Amendment 11 and Shrimp Amendment 12 addressing the establishment of a rock shrimp fishery access area along the eastern boundary of the northern extension of the Oculina Habitat Area of Particular Concern, and is scheduled to approve actions.

SEDAR Committee, Thursday, September 18, 2025, 3:45 p.m. Until 5:30 p.m.

The Committee will receive reports from the SEDAR Steering Committee, review species selected for 2025-2029 stock assessments and statements of work for upcoming assessments (Spanish mackerel, greater amberjack, and red porgy) and discuss changes to the SEDAR process.

Council Session II, Friday, September 19, 2025, 8:30 a.m. Until 12 p.m.

The Council will elect a Council Chair and Vice Chair. The Council will receive Committee reports, discuss the Best Fishing Practices Survey, review the Council Workplan and upcoming meetings, and discuss any other business as needed.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 5 days prior to the meeting.

Note: The times and sequence specified in this agenda are subject to change.

Authority: 16 U.S.C. 1801 et seq.

Dated: August 22, 2025.
Rey Israel Marquez,
Acting Deputy Director, Office of Sustainable Fisheries, National Marine Fisheries Service.

[FR Doc. 2025-16378 Filed 8-26-25; 8:45 am]

BILLING CODE 3510-22-P